DEPARTMENT OF AGRICULTURE

Forest Service

Information Collection: Workforce Development Participant Tracking Form Formerly Public Lands Corps Tracking Sheet

AGENCY: Forest Service, USDA.

ACTION: Notice; request for comment.

SUMMARY: In accordance with the Paperwork Reduction Act of 1995, the USDA Forest Service is seeking comments from all interested individuals and organizations on the renewal of a currently approved information collection, currently titled the Public Lands Corps Tracking Sheet and proposed to change to Workforce Development Participant Tracking Form.

DATES: Comments must be received in writing on or before February 1, 2022 to be assured of consideration. Comments received after that date will be considered to the extent practicable.

ADDRESSES: You may submit comments by any of the following methods; email is encouraged:

• Email: 21CSC@fs.fed.us.

• Mail: Merlene Mazyck, Civilian Climate Corps Coordinator, USDA Forest Service, Attn: Recreation, Heritage and Volunteer Resources, 1400 Independence Ave. SW, Mailstop Code: 1125, Washington, DC 20250-1125.

• Hand Delivery/Courier: USDA Forest Service, Attn: Recreation, Heritage and Volunteer Resources, 1400 Independence Ave. SW, Mailstop Code: 1125, Washington, DC 20250-1125.

The public may inspect comments received at the Office of the Director, Recreation, Heritage and Volunteer Resources, 5th Floor South West, Sidney R. Yates Federal Building, 201 14th Street SW, Washington, DC, during normal business hours. Visitors are encouraged to call ahead to 202-205-0560 to facilitate entry to the building.

SUPPLEMENTARY INFORMATION:

Title: Workforce Development Participant Tracking Form.

OMB Number: 0596-0247.

Expiration Date of Approval: February 28, 2022.

Type of Request: Extension with revisions of a currently approved information collection.

Abstract: Federal land management and other agencies are authorized to offer work and education programs for individuals in natural and cultural resources careers and experiences in partnership with conservation and service corps, and environmental and other organizations that contribute to the rehabilitation, restoration, and repair of public lands resources and infrastructure and climate adaptation and mitigation. Some of the applicable statutes and regulations include special hiring authorities, upon completion of certain requirements. This information collection request will enable participating agencies to capture required and other information that will aid in workforce development and job training for young people, returning veterans and others who are unemployed or underemployed, and to monitor compliance with statutory laws and associated hiring authorities. A primary, but not exclusionary, authorizing source for the information collection is 16 U.S.C. 1702-1727, chapter 37—Youth Conservation Corps, Public Lands Corps, Resource Assistants Program, and Indian Youth Service Corps. The Public Lands Corps is a work and education program involving the nation's land management agencies, conservation and service corps, and environmental organizations that contribute to the rehabilitation, restoration, and repair of public lands resources and infrastructures. Public Lands Corps projects provide opportunities for community and national public service, work experience and training for young people who are unemployed or underemployed persons, students, recent graduates, and others with an interest in natural and cultural resources careers.

The Workforce Development Participant Tracking Form supports the effective management of the Public Lands Corps and other workforce development programs hosted in partnership with public lands agencies. The utilization of a common form will: Assist federal agencies to uniformly collect information regarding work accomplished; track and monitor participant engagement to determine the completion of requirements for non-competitive hiring eligibility as defined in the Act; comply with statutory reporting requirements; inform effective outreach strategies to underrepresented populations and marginalized communities consistent with efforts to promote inclusion priorities; and provide data about project activities that can be aggregated across federal agencies.

Information collected, such as participant demographic information, and project information, will allow the Forest Service and other agencies to monitor the effectiveness of federal efforts to meet the intent of the authorizing statutes, including the Public Lands Corps Act and the Administration's Civilian Climate Corps Initiative. It will allow the Forest Service and other agencies to engage under-represented populations in natural and cultural resource conservation jobs, development and scientific research work, and education on public lands. This information collection request will ensure that partners maintain a record of all workforce development agreements, grants and contracts established, participant demographics and education, project information and work hours, project locations and dates, and status of special hiring eligibilities conferred upon eligible participants.

Proposed Changes to Information Collection: Changes to the information collected will help monitor workforce development partnerships, training and performance outcomes grounded in justice, equity, diversity, and inclusion principles. These changes will also position agencies to begin monitoring Civilian Climate Change engagement pursuant to climate change and diversity objectives as defined in the Build Back Better Act of 2021. Land management and other federal agencies are working across boundaries to improve access for partners and reduce burden, streamline, and standardize reporting and collect data to inform evidence-based decision making and improvements by all parties. Changes to the form will be integrated with a web-based application for data entry and will include expanded demographics reported about veteran and special ability status genders, vocational and technical certifications, and education; enhanced project and type of work data; and better systems integration, interagency standards and checks and balances that improve integrity of systems and security of Personal Identifiable Information and program information.

Type of Respondents: Non-profit Organizations and Non-Federal Governmental entities.

Estimated Annual Number of Respondents: 500.

Estimated Annual Number of Responses per Respondent: 2; twice annually required. The application will be available for respondents to input data more frequently if they choose.

Estimated Total Annual Responses: 500.

Estimated Time per Response: 2 hours per response.

Estimated Total Annual Burden on Respondents: 1,000 hours.

Comment is Invited: Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection methods or forms of information technology.

All comments received in response to this notice, including names and addresses when provided, will be a matter of public record. Comments will be summarized and included in the submission of the information collection request to Office of Management and Budget.

Christopher French,
Deputy Chief, National Forest System.

[FR Doc. 2021-26306 Filed 12-2-21; 8:45 am]

BILLING CODE 3411-15-P